DEPARTMENT OF THE INTERIOR

Royalty Policy Committee (RPC) Notice of Renewal

AGENCY: Office of Natural Resources Revenue, Interior.

ACTION: Notice of renewal of the Royalty Policy Committee.

SUMMARY: Following consultation with the General Services Administration, notice is hereby given that the Secretary of the Interior is renewing the Royalty Policy Committee.

The Royalty Policy Committee provides advice to the Secretary of the Interior on the management of Federal and Indian mineral leases and revenues under the laws governing the Department of the Interior. The Committee will also review and comment on revenue management and other mineral and energy-related policies, and provide a forum to convey views representative of mineral lessees, operators, revenue payors, revenue recipients, governmental agencies, and public interest groups. The Royalty Policy Committee reports to the Secretary of the Interior through the Director of the Office of Natural Resources Revenue.

FOR FURTHER INFORMATION CONTACT: Ms. Shirley Conway, Office of Natural Resources Revenue; 1801 Pennsylvania Avenue; Washington, DC 20006; telephone number (202) 254-5554.

Certification

I hereby certify that the renewal of the Royalty Policy Committee is in the public interest in connection with the performance of duties imposed on the Department of the Interior by 43 U.S.C. 1331 et. seq.

Dated: April 2, 2012.
Ken Salazar,
Secretary of the Interior.

[FR Doc. 2012-9155 Filed 4-16-12; 8:45 am]

BILLING CODE 4310-T2-P